DEPARTMENT OF TRANSPORTATION

National Highway Traffic Safety Administration

[Docket No. NHTSA 2002-12479; Notice 1]

Dorel Juvenile Group; Receipt of Application for Determination of Inconsequential Non-Compliance

Dorel Juvenile Group [Cosco] (DJG), of Columbus, Indiana, failed to comply with S5.4.1(a) of Federal Motor Vehicle Safety Standard (FMVSS) No. 213, “Child Restraint Systems,” which incorporates S5.1(d) of FMVSS No. 209, “Seat Belt Assemblies,” and has filed an appropriate report pursuant to 49 CFR Part 573, “Defect and Noncompliance Reports.” DJG has also applied to be exempted from the notification and remedy requirements of 49 U.S.C. Chapter 301—“Motor Vehicle Safety” on the basis that the noncompliance is inconsequential to motor vehicle safety.

This notice of receipt of the application is published under 49 U.S.C. 30118 and 30120 and does not represent any agency decision or other exercise of judgement concerning the merits of the application.

The following summarizes the DJG petition based upon information provided with the petition in accordance with the requirements of 49 CFR part 556, “Exemption for Inconsequential Defect or Noncompliance.”

Summary of the Petition

On July 11, 2001, as a result its fiscal year 2001 testing, NHTSA notified DJG, by telephone, of a potential noncompliance regarding DJG's tether webbing. The noncompliance is the webbing utilized for tether assemblies on many of DJG child restraints produced from January 2000 through September 30, 2001 (39 Models and 3,957,826 units). DJG determined that one of the suppliers of tether webbing utilized in the tether assemblies had provided some webbing that did not meet the abrasion test requirements. DJG's unabraded tether webbing strength, measured by NHTSA's FY 2001 compliance testing, was 4,450 pounds, and after abrasion it was 2,450 pounds (a ratio of abraded/unabraded webbing strength of 55%). Section 5.4.1(a) of FMVSS No. 213 requires webbing to have an abraded strength of not less than 75% of its unabraded breaking strength.

DJG believes that because its unabraded webbing strength was high (4,450 pounds), not meeting the 75% abrasion strength requirement of S5.4.1(a) of FMVSS No. 213 is inconsequential to motor vehicle safety. DJG believes that its abraded strength at 2,450 pounds is far in excess of the anchorage strength requirements specified in FMVSS No. 225 “Child restraint anchorage systems” at 1,191 pounds. DJG also believes that the abraded webbing strength test procedure set forth in S5.4.1(a) of FMVSS No. 213 is flawed and that minimum abraded breaking strength should be specified. Therefore, DJG filed this petition on the basis that the noncompliance is inconsequential to motor vehicle safety.

Availability of the Petition and Other Documents

The petition and other relevant information are available for public inspection in NHTSA Docket No. NHTSA-2002-12479. You may call the Docket at (202) 366-9324 or you may visit the Docket Management in Room PL-401, 400 Seventh Street, SW, Washington, DC 20590 (10:00 a.m. to 5 p.m., Monday through Friday). You may also view the petition and other relevant information on the Internet. To do this, do the following:

(1) Go to Docket Management System (DMS) Web page for the Department of Transportation (http://dms.dot.gov)

(2) On that page, click on “Simple Search.”

(3) On the next page (http://dms.dot.gov/search/SearchFormSimple.cfm), type the docket number “12479.” After typing the docket number, click on “search.”

(4) On the next page, which contains docket summary information for the docket you selected, click on the desired comments. You may download the comments and other materials.

Comments

Interested persons are invited to submit written data, views and arguments on the petition of DJG described above. Comments should refer to the Docket Number and be submitted to: U.S Department of Transportation Docket Management, Room PL 401, 400 Seventh Street, SW, Washington, DC 20590. It is requested that two copies be submitted.

All comments received before the close of business on the closing date indicated below will be considered. The application and supporting materials, and all comments received after the closing date will also be filed and will be considered to the extent practicable. When the application is granted or denied, the Notice will be published in the Federal Register pursuant to the authority indicated below.

Comment closing date: August 29, 2002.

(49 U.S.C. 30118, 30120; delegations of authority at 49 CFR 1.50 and 49 CFR 501.8)

Issued on: July 23, 2002.
Stephen R. Kratzke,
Associate Administrator for Safety Performance Standards.

[FR Doc. 02-19141 Filed 7-29-02; 8:45 am]

BILLING CODE 4910-59-P